ENVIRONMENTAL PROTECTION AGENCY

[EPA-HQ-OAR-2007-0492; FRL-9171-6]

Release of Second Draft Document Related to the Review of the National Ambient Air Quality Standards for Particulate Matter

AGENCY: Environmental Protection Agency (EPA).

ACTION: Availability of draft document for public comment.

SUMMARY: On or about June 30, 2010, the Office of Air Quality Planning and Standards (OAQPS) of EPA is making available for public comment a draft document: Policy Assessment for the Review of the Particulate Matter National Ambient Air Quality Standards—Second External Review Draft. This draft document will serve to “bridge the gap” between the scientific information and the judgments required of the Administrator in determining whether it is appropriate to retain or revise the standards as part of the review of the national ambient air quality standards (NAAQS) for particulate matter (PM).

DATES: Comments should be submitted on or before August 16, 2010.

ADDRESSES: Submit your comments, identified by Docket ID No. EPA-HQ-OAR-2007-0492, by one of the following methods:

• http://www.regulations.gov: Follow the on-line instructions for submitting comments.

• E-mail: Comments may be sent by electronic mail (e-mail) to a-and-r-docket@epa.gov, Attention Docket ID No. EPA-HQ-OAR-2007-0492.

• Fax: Fax your comments to 202-566-9744, Attention Docket ID. No. EPA-HQ-OAR-2007-0492.

• Mail: Send your comments to: Air and Radiation Docket and Information Center, Environmental Protection Agency, Mailcode: 2822T, 1200 Pennsylvania Ave., NW., Washington, DC 20460, Attention Docket ID No. EPA-HQ-OAR-2007-0492.

• Hand Delivery or Courier: Deliver your comments to: EPA Docket Center, 1301 Constitution Ave., NW., Room 3334, Washington, DC. Such deliveries are only accepted during the Docket's normal hours of operation, and special arrangements should be made for deliveries of boxed information.

Instructions: Direct your comments to Docket ID No. EPA-HQ-OAR-2007-0492. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Docket in the EPA Docket Center, EPA West, Room 3334, 1301 Constitution Ave., NW., Washington, DC. This Docket Facility is open from 8:30 a.m. to 4:30 p.m. Monday through Friday, excluding legal holidays. The Docket telephone number is 202-566-1742; fax 202-566-9744.

FOR FURTHER INFORMATION CONTACT: For questions related to this draft document, please contact Ms. Beth Hassett-Sipple, Office of Air Quality Planning and Standards (Mail code C504-06), U.S. Environmental Protection Agency, Research Triangle Park, NC 27711; e-mail: hassett-sipple.beth@epa.gov; telephone: 919-541-4605; fax: 919-541-0237.

General Information

A. What Should I Consider as I Prepare My Comments for EPA?

1. Submitting CBI. Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Make sure to submit your comments by the comment period deadline identified.

SUPPLEMENTARY INFORMATION: Under section 108(a) of the Clean Air Act (CAA), the Administrator identifies and lists certain pollutants which “cause or contribute to air pollution which may reasonably be anticipated to endanger public health or welfare.” The EPA then issues air quality criteria for these listed pollutants, which are commonly referred to as “criteria pollutants.” The air quality criteria are to “accurately reflect the latest scientific knowledge useful in indicating the kind and extent of all identifiable effects on public health or welfare which may be expected from the presence of [a] pollutant in the ambient air, in varying quantities.” Under section 109 of the CAA, EPA establishes primary (health-based) and secondary (welfare-based) NAAQS for pollutants for which air quality criteria are issued. Section 109(d) of the CAA requires periodic review and, if appropriate, revision of existing air quality criteria. The revised air quality criteria reflect advances in scientific knowledge on the effects of the pollutant on public health or welfare. The EPA is also required to periodically review and revise the NAAQS, if appropriate, based on the revised criteria.¹

¹ See http://www.epa.gov/ttn/naaqs/review.html for more information on the NAAQS review process.

Presently, EPA is reviewing the NAAQS for PM. The EPA's overall plan and schedule for this review is presented in the Integrated Review Plan for the National Ambient Air Quality Standards for Particulate Matter.² A draft of the integrated review plan was released for public review and comment in October 2007 and was the subject of a consultation with the Clean Air Scientific Advisory Committee (CASAC) on November 30, 2007 (72 FR 63177; November 8, 2007). Comments received from that consultation and from the public were considered in finalizing the plan and in beginning the review of the air quality criteria.

² EPA 452R-08-004; March 2008; Available: http://www.epa.gov/ttn/naaqs/standards/pm/s_pm_2007_pd.html.

As part of EPA's review of the primary (health-based) and secondary (welfare-based) PM NAAQS, the Agency has completed the Integrated Science Assessment for Particulate Matter ³ and two quantitative assessment documents characterizing: (1) The health risks associated with exposure to ambient PM and (2) urban visibility impairment associated with PM. The two assessment documents are titled, Particulate Matter Urban-Focused Visibility Assessment and Quantitative Health Risk Assessment for Particulate Matter.⁴

³ EPA 600/R-08/139F and EPA 600/R-08/139FA, December 2009; Available: http://www.epa.gov/ttn/naaqs/standards/pm/s_pm_2007_isa.html.

⁴ EPA 452/R-10-004 and EPA 452/R-10-005, June 2010; Available: http://www.epa.gov/ttn/naaqs/standards/pm/s_pm_2007_risk.html.

The second draft Policy Assessment announced today builds on the scientific and technical information available in this review as assessed in the Integrated Science Assessment and the two quantitative assessment documents identified above. This document presents factors relevant to EPA's review of the primary and secondary PM NAAQS. It focuses on both evidence- and risk-based information in evaluating the adequacy of the current PM NAAQS and identifying potential alternative standards for consideration. The second draft Policy Assessment may be accessed online on or about June 30, 2010, through EPA's TTN Web site at http://www.epa.gov/ttn/naaqs/standards/pm/s_pm_2007_pa.html.

The EPA is soliciting advice and recommendations from the CASAC by means of a review of the second draft Policy Assessment at an upcoming public meeting of the CASAC that will be held on July 26-27, 2010 (75 FR 32763; June 9, 2010). Following the CASAC meeting, EPA will consider comments received from the CASAC and the public in preparing a final Policy Assessment.

The draft document described above does not represent and should not be construed to represent any final EPA policy, viewpoint, or determination.

Dated: June 25, 2010.
Jennifer Noonan Edwards,
Acting Director.

[FR Doc. 2010-16490 Filed 7-7-10; 8:45 am]

BILLING CODE 6560-50-P